GENERAL SERVICES ADMINISTRATION

41 CFR Chapter 301

[FTR Notice 2011-01; Docket No. 2011-0002; Sequence 5]

Federal Travel Regulation (FTR): Temporary Duty (TDY) Travel Allowances: Notice of Public Meeting

AGENCY: Office of Governmentwide Policy, General Services Administration (GSA).

ACTION: Notice of public meeting.

SUMMARY: The General Services Administration (GSA) is revising the Federal Travel Regulation (FTR) in an effort to streamline travel policies, increase travel efficiency and effectiveness, and incorporate industry best practices. Additional goals of the FTR revision effort is to allow for open transparency, an exchange of ideas, and provide agency flexibility. GSA is leading three working groups comprised of representatives from Federal agencies to revise those areas of the FTR which pertain to Temporary Duty (TDY) Travel Allowances that include special conveyances, per diem and air transportation. The purpose of this notice is to announce that the working groups will hold a public meeting to receive information from industry and the public on best practices in the aforementioned areas.

DATES: The meeting will take place on September 7, 2011 and September 8, 2011.

FOR FURTHER INFORMATION CONTACT: Ms. Marcerto Barr, GSA, 1275 First Street, NE., Washington, DC 20417; telephone: (202) 208-7654; or e-mail: Marcerto.Barr@gsa.gov.

SUPPLEMENTARY INFORMATION:

Background

The U.S. General Services Administration under applicable authorities, such as 5 U.S.C. 5707; 20 U.S.C. 905(a); 31 U.S.C. 1353; 40 U.S.C. 121(c); 49 U.S.C. 40118; E.O. 11609, as amended; 3 CFR 1971-1975 Comp., p. 586; and E.O. 13563, is currently addressing the following categories of the FTR Chapter 301- TDY Allowances and related appendices: special conveyances (includes ground transportation and rental cars), per diem (includes meals, incidental expenses, and lodging), and air transportation (includes common carriage transportation). GSA is leading three working groups comprised of Federal agency representatives to address these categories. The last major rewrite of the FTR took place in 1998.

Meeting Details

Place: The 2-day public meetings will be held at the GSA Auditorium, 1800 F Street, NW., Washington, DC 20405. The meeting is open to industry and the general public beginning at 10 a.m. EST through 4 p.m. EST.

Attendance: The event is open to the public based upon space availability. Attendees and speakers must pre-register. A limited number of speakers will be allowed to make oral presentations based upon space and on a first-come, first-serve basis. Additionally individuals are welcome to submit written materials to the working groups.

Pre-Registration: To pre-register, as an attendee or speaker contact Ms. Barr as detailed above. Participants interested in speaking should indicate the category you would like to address, your name, company name or organization (if applicable), telephone number and email no later than the close of business on August 23, 2011.

Agenda: Presentations from industry and the public will be time limited. Each registered presenter will be allotted a total of 20 minutes.

Statements and Presentations: Send written or electronic statements and requests to make oral presentations to the contact person listed above. Submissions must be provided to Ms. Barr at Marcerto.Barr@gsa.gov no later than the close of business on August 23, 2011.

Information on Services for Individuals with Disabilities: Individuals requiring special accommodations at the meeting, please contact Ms. Barr no later than the close of business on August 23, 2011.

Dated: July 14, 2011.
Janet C. Dobbs,
Director, Office of Travel, Transportation & Asset Mgmt.

[FR Doc. 2011-18305 Filed 7-19-11; 8:45 am]

BILLING CODE 6820-14-P